DEPARTMENT OF COMMERCE

Foreign-Trade Zones Board

Order No. 1603

Reorganization/Expansion of Foreign-Trade Zone 176, Rockford, Illinois, Area

Pursuant to its authority under the Foreign-Trade Zones Act of June 18, 1934, as amended (19 U.S.C. 81a-81u), the Foreign-Trade Zones Board (the Board) adopts the following Order:

Whereas, the Greater Rockford Airport Authority, grantee of Foreign-Trade Zone 176, submitted an application to the Board for authority to reorganize and expand FTZ 176-Site 1 to include additional acreage and Temporary Site 1A on a permanent basis, expand the zone to include five additional sites (Sites 8 - 12), and to formally delete existing Site 2 and Site 5 from the zone project within the Rockford Customs and Border Protection port of entry (FTZ Docket 31-2008, filed 5/9/08);

Whereas, notice inviting public comment was given in the Federal Register (73 FR 28429, 5/16/08) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize and expand FTZ 176 is approved, subject to the FTZ Act and the Board's regulations, including Section 400.28, subject to the Board's standard 2,000-acre activation limit for the overall general-purpose zone project, and further subject to a sunset provision that would terminate authority on January 31, 2014, for Sites 8, 9, 10, 11 and 12 where no activity has occurred under FTZ procedures before that date.

Signed at Washington, DC, this 30th day of January 2009.

Ronald K. Lorentzen,
Acting Assistant Secretary of Commerce for Import Administration, Alternate Chairman, Foreign-Trade Zones Board.
Attest:
Andrew McGilvray,
Executive Secretary.

[FR Doc. E9-2649 Filed 2-9-09; 8:45 am]

BILLING CODE 3510-DS-S